DEPARTMENT OF COMMERCE

International Trade Administration

University of Chicago, et al.; Notice of Decision on Applications for Duty-Free Entry of Scientific Instruments

This is a decision pursuant to section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave, NW., Washington, DC.

Docket Number: 10-067. Applicant: University of Chicago, Argonne LLC, Lemont, IL 60439. Instrument: Pilatus 100K Pixel Detector System. Manufacturer: Dectris Ltd., Switzerland. Intended Use: See notice at 75 FR 82372, December 30, 2010. Comments: None received. Decision: Approved. We know of no instruments of equivalent scientific value to the foreign instruments described below, for such purposes as this is intended to be used, that was being manufactured in the United States at the time of its order. Reasons: The instrument is the first and only commercially available pixel array detector for x-ray applications. The instrument's unique capabilities are a high detection efficiency (no readout noise and direct detection scheme), high dynamic range (20-bits), and fast readout speeds.

Docket Number: 10-068. Applicant: University of Chicago, Argonne LLC, Lemont, IL 60439. Instrument: Pilatus 300K Pixel Detector System. Manufacturer: Dectris Ltd., Switzerland. Intended Use: See Notice at 75 FR 82372, December 30, 2010. Comments: None received. Decision: Approved. We know of no instruments of equivalent scientific value to the foreign instruments described below, for such purposes as this is intended to be used, that was being manufactured in the United States at the time of its order. Reasons: The instrument's unique capabilities are a high detection efficiency (no readout noise and direct detection scheme), high dynamic range (20-bits), and fast readout speeds, which are not available in any domestically produced equipment.

Docket Number: 10-069. Applicant: University of Minnesota School of Dentistry, Minneapolis, MN 55455. Instrument: Dental Imaging System: Cross-Polarization Swept Source Optical Coherence Tomography with a MEMS Handpiece. Manufacturer: Santec Corporation, Japan. Intended Use: See Notice at 75 FR 82372, December 30, 2010. Comments: None received. Decision: Approved. We know of no instruments of equivalent scientific value to the foreign instruments described below, for such purposes as this is intended to be used, that was being manufactured in the United States at the time of its order. Reasons: Three crucial aspects of the instrument are size (the hand piece is 16 x 15 x 80 mm), speed (can operate at 30 kHz swept source speed), and image contrast (able to suppress the parallel polarization by 30 dB), which are not available in any domestically produced instrument.

Dated: January 24, 2011.
Gregory W. Campbell,
Director, Subsidies Enforcement Office, Import Administration.

[FR Doc. 2011-2106 Filed 1-28-11; 8:45 am]

BILLING CODE 3510-DS-P